DEPARTMENT OF COMMERCE

National Oceanic and Atmospheric Administration

RIN 0648-XO43

Marine Mammals; File No. 881-1724

AGENCY: National Marine Fisheries Service (NMFS), National Oceanic and Atmospheric Administration (NOAA), Commerce.

ACTION: Notice; issuance of permit amendment.

SUMMARY: Notice is hereby given that the Alaska SeaLife Center, 301 Railway Avenue, Seward, AK 99664 [Dr. Ian Dutton, Responsible Party] has been issued an amendment to scientific research Permit No. 881-1724.

ADDRESSES: The amendment and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Amy Sloan or Jennifer Skidmore, (301)713-2289.

SUPPLEMENTARY INFORMATION: The requested amendment has been granted under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

This minor amendment extends the expiration date of the permit from March 30, 2009 to March 30, 2010, and minor changes to personnel are authorized. The permit authorizes the Permit Holder to import, export, and collect parts from marine mammals taken under existing permits in the country of origin; from legal subsistence hunts; from legal incidental bycatch; and from opportunistic collection of stranded carcasses. The purposes of this research are to study marine mammal population ecology, diet and nutrition, reproductive physiology, toxicology, and health. No takes of live animals are authorized by the permit.

Issuance of this permit, as required by the ESA, was based on a finding that such permit: (1) was applied for in good faith; (2) will not operate to the disadvantage of endangered species; and (3) is consistent with the purposes and policies set forth in section 2 of the ESA.

Dated: April 1, 2009
P. Michael Payne,
Chief, Permits, Conservation and Education Division, Office of Protected Resources, National Marine Fisheries Service.

[FR Doc. E9-7858 Filed 4-6-09; 8:45 am]

BILLING CODE 3510-22-S